DEPARTMENT OF COMMERCE

International Trade Administration

[A-475-703]

Granular Polytetrafluoroethylene Resin From Italy: Amended Final Results of Antidumping Duty Administrative Review

AGENCY: Import Administration, International Trade Administration, Department of Commerce.

SUMMARY: On March 31, 2009, the Department of Commerce (“the Department”) published the final results of the administrative review of the antidumping duty order on granular polytetrafluoroethylene resin (“PTFE”) from Italy, covering the period August 1, 2006, through July 31, 2007. See Granular Polytetrafluoroethylene Resin From Italy: Final Results of Antidumping Duty Administrative Review, 74 FR 14519 (March 31, 2009) (“Final Results”). We are amending the Final Results to correct ministerial errors in the calculation of the weighted average margin and the assessment rate applicable to entries by the respondent to this proceeding, Solvay Solexis S.p.A. and Solvay Solexis, Inc. (collectively, “Solvay”), pursuant to section 751(h) of the Tariff Act of 1930, as amended (“the Act”), and 19 CFR 351.224(e).

EFFECTIVE DATE: April 30, 2009.

FOR FURTHER INFORMATION CONTACT: Yasmin Nair or Nancy Decker, at (202) 482-3813 or (202) 482-0196, respectively; AD/CVD Operations, Office 1, Import Administration, International Trade Administration, U.S. Department of Commerce, 14th Street & Constitution Avenue, NW, Washington, DC 20230.

SUPPLEMENTARY INFORMATION:

Background

On March 31, 2009, Solvay submitted a timely allegation of ministerial errors pursuant to 19 CFR 351.224(c)(1). First, Solvay alleged that the Department did not incorporate minor corrections from verification into U.S. duty expenses and U.S. brokerage expenses for individual U.S. sales observations. Second, Solvay alleged that the Department erred in its re-calculation of the research and development (“R&D”) expenses that pertain to Solvay's general and administrative (“G&A”) expense ratio. See Memorandum from Ernest Z. Gziryan, Senior Accountant, to Neal M. Halper, Director, Office of Accounting, “Cost of Production and Constructed Value Calculation Adjustments for the Final Results - Solvay Solexis S.p.A.” (March 23, 2009) at Attachment 5.

On April 1, 2009, the petitioner to this proceeding, E.I. DuPont de Nemours & Company (“petitioner”), submitted a rebuttal to Solvay's ministerial error allegations. The petitioner did not comment on the alleged errors in the individual sales observations. However, the petitioner argued that the Department should reject Solvay's allegation regarding R&D expenses because the alleged error is methodological, not ministerial, in nature. Moreover, the petitioner asserted that the Department did not err in the R&D expense re-calculation. The petitioner claimed that Solvay's proposed correction would understate the R&D expenses that are attributable to the merchandise under review.

Amended Final Results of Review

A ministerial error, as defined in section 751(h) of the Act, “includes errors in addition, subtraction, or other arithmetic function, clerical error resulting from inaccurate copying, duplication, or the like, and any other type of unintentional error which the Secretary considers ministerial.” See also 19 CFR 351.224(f). After analyzing Solvay's allegation, we have determined, in accordance with section 751(h) of the Act and 19 CFR 351.224(e), that the Department made ministerial errors in the final results by not revising U.S. duty and brokerage expenses for the individual sales in question. However, for the allegation regarding the R&D expense portion of the G&A expense ratio, we find that Solvay's allegation is methodological, not ministerial, in nature. Thus, we have made no changes to the R&D expense portion of Solvay's G&A expenses. For additional explanation, see the Memorandum from PTFE Team to Susan Kuhbach, Director, Office 1: Ministerial Error Allegations (April 24, 2009).

Therefore, we are amending the final results of administrative review of PTFE from Italy for the period August 1, 2006, through July 31, 2007, to include the revised U.S. movement and brokerage expenses for the sales observations at issue. The revised weighted-average percentage dumping margin for Solvay is now 79.45 percent.

Assessment Rate

The Department will determine, and U.S. Customs and Border Protection (“CBP”) shall assess, antidumping duties on all appropriate entries based on the amended final results. For details on the assessment of antidumping duties on all appropriate entries, see the Final Results.

The Department intends to issue appropriate assessment instructions directly to CBP 15 days after the date of publication of the amended final results of the administrative review.

Cash Deposit Requirements

The following deposit rates will be effective retroactively on any entries made on or after March 31, 2009, the date of publication of the Final Results, for all shipments of PTFE from Italy entered, or withdrawn from warehouse, for consumption on or after the publication date, as provided by section 751(a)(2)(C) of the Act: (1) the cash deposit rate listed above for Solvay will be the rate established in the amended final results of this review, except if a rate is less than 0.5 percent, and therefore de minimis, the cash deposit rate will be zero; (2) for previously reviewed or investigated companies not listed above, the cash deposit rate will continue to be the company-specific rate published for the most recent period; (3) if the exporter is not a firm covered in this review, a prior review, or the less-than-fair-value (“LTFV”) investigation, but the manufacturer is, the cash deposit rate will be the rate established for the most recent period for the manufacturer of the merchandise; and (4) if neither the exporter nor the manufacturer is a firm covered in this or any previous review conducted by the Department, the cash deposit rate will be 46.46 percent, the “all others” rate established in the LTFV investigation. See Final Determination of Sales at Less Than Fair Value: Granular Polytetrafluoroethylene Resin From Italy, 53 FR 26096 (July 11, 1988). These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification to Interested Parties

This notice is also the reminder to parties subject to administrative protective order (“APO”) of their responsibility concerning the return or destruction of proprietary information disclosed under APO in accordance with 19 CFR 351.305(a)(3). Timely written notification of the return/destruction of APO materials or conversion to judicial protective order is hereby requested. Failure to comply with the regulations and the terms of an APO is a sanctionable violation.

Disclosure

We will disclose the calculations performed for these amended final results within five days of the date of publication of this notice to interested parties in accordance with 19 CFR 351.224(b).

We are issuing and publishing these results and notice in accordance with sections 751(a)(1) and 777(i)(1) of the Act.

Dated: April 24, 2009.
Ronald K. Lorentzen,
Acting Assistant Secretary for Import Administration.

[FR Doc. E9-10000 Filed 4-29-09; 8:45 am]

BILLING CODE 3510-DS-S